DEPARTMENT OF COMMERCE

International Trade Administration

[A-433-813 and A-427-830]

Strontium Chromate From Austria and France: Antidumping Duty Orders

AGENCY: Enforcement and Compliance, International Trade Administration, Department of Commerce.

SUMMARY: Based on affirmative final determinations by the Department of Commerce (Commerce) and the International Trade Commission (ITC), Commerce is issuing antidumping duty orders on strontium chromate from Austria and France.

DATES: Applicable November 27, 2019.

FOR FURTHER INFORMATION CONTACT: Joshua Simonidis or Dennis McClure, AD/CVD Operations, Office VIII, Enforcement and Compliance, U.S. Department of Commerce, 1401 Constitution Avenue NW, Washington, DC 20230; telephone (202) 482-0608 or (202) 482-5973, respectively.

SUPPLEMENTARY INFORMATION:

Background

In accordance with sections 735(d) and 777(i)(1) of the Tariff Act of 1930, as amended (the Act), and 19 CFR 351.210(c), on October 8, 2019, Commerce published its affirmative final determinations in the less-than-fair-value (LTFV) investigations of strontium chromate from Austria and France.¹ On November 21, 2019, the ITC notified Commerce of its affirmative determinations, pursuant to section 735(d) of the Act, that an industry in the United States is materially injured within the meaning of section 735(b)(1)(A)(i) of the Act, by reason of the LTFV imports of strontium chromate from Austria and France.²

¹ See Strontium Chromate From Austria: Final Affirmative Determination of Sales at Less Than Fair Value, 84 FR 53676 (October 8, 2019) (Austria Final Determination); see also Strontium Chromate From France: Final Affirmative Determination of Sales at Less Than Fair Value and Final Negative Determination of Critical Circumstances, 84 FR 53678 (October 8, 2019) (France Final Determination).

² See Notification Letter from the ITC, dated November 21, 2019.

Scope of the Orders

The merchandise covered by these orders is strontium chromate from Austria and France. For a complete description of the scope of the orders, see the Appendix to this notice.

Antidumping Duty Orders

As stated above, on November 21, 2019, in accordance with sections 735(b)(1)(A)(i) and 735(d) of the Act, the ITC notified Commerce of its determination that the industry in the United States producing strontium chromate is materially injured with respect to strontium chromate from Austria and France.³ Therefore, in accordance with section 735(c)(2) of the Act, we are issuing these antidumping duty orders. Because the ITC determined that imports of strontium chromate from Austria and France are materially injuring a U.S. industry, unliquidated entries of such merchandise from Austria and France, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of strontium chromate from Austria and France. Antidumping duties will be assessed on unliquidated entries of strontium chromate from France entered, or withdrawn from warehouse, for consumption on or after May 17, 2019, the date of publication of the preliminary determination,⁴ and on unliquidated entries of strontium chromate from Austria entered or withdrawn from warehouse, for consumption on or after June 18, 2019, the date of publication of the amended preliminary determination,⁵ but will not include entries occurring after the expiration of the provisional measures period and before publication in the Federal Register of the ITC's injury determinations.

⁴ See Strontium Chromate From France: Preliminary Affirmative Determination of Sales at Less Than Fair Value, Preliminary Negative Determination of Critical Circumstances, Postponement of Final Determination, and Extension of Provisional Measures, 84 FR 22438 (May 17, 2019) (France Preliminary Determination).

⁵ See Strontium Chromate From Austria: Amended Preliminary Determination of Sales at Less Than Fair Value, 84 FR 28272 (June 18, 2019) (Austria Amended Preliminary Determination). See also Strontium Chromate from Austria: Preliminary Determination of Sales at Not Less Than Fair Value and Postponement of Final Determination, 84 FR 22443 (May 17, 2019) (Austria Preliminary Determination).

Suspension of Liquidation

In accordance with section 735(c)(1)(B) of the Act, we will instruct CBP to continue to suspend liquidation, and resume suspension of liquidation, on all relevant entries of strontium chromate from Austria and France, respectively, which are entered, or withdrawn from warehouse, for consumption on or after the date of publication of the ITC's notice of final determination in the Federal Register. These instructions suspending liquidation will remain in effect until further notice.

We will also instruct CBP to require cash deposits for estimated antidumping duties equal to the amounts as indicated below. Accordingly, effective on the date of publication in the Federal Register of the ITC's affirmative injury determinations, CBP will require, at the same time as importers would normally deposit estimated normal customs duties on this subject merchandise, a cash deposit equal to the estimated weighted-average dumping margins listed below.⁶ The relevant all-others rates apply to all producers or exporters not specifically listed, as appropriate.

⁶ See section 736(a)(3) of the Act.

Provisional Measures

Section 733(d) of the Act states that instructions issued pursuant to an affirmative preliminary determination may not remain in effect for more than four months, except where exporters representing a significant proportion of exports of the subject merchandise request Commerce to extend that four-month period to no more than six months. At the request of exporters that account for a significant proportion of exports of strontium chromate from Austria and France, we extended the four-month period to six months in each proceeding.⁷ In the France investigation, Commerce published the preliminary determinations on May 17, 2019.⁸ Therefore, the extended period, beginning on the date of publication of the preliminary determination, ended on November 13, 2019.

⁷ See France Preliminary Determination; see also Austria Amended Preliminary Determination.

⁸ See France Preliminary Determination.

In accordance with section 733(d) of the Act and our practice, we will instruct CBP to terminate the suspension of liquidation and to liquidate, without regard to antidumping duties, unliquidated entries of strontium chromate from France entered, or withdrawn from warehouse, for consumption after November 13, 2019, the date on which the provisional measures expired, until and through the day preceding the date of publication of the ITC's injury determinations in the Federal Register. Suspension of liquidation will resume on the date of publication of the ITC's determination in the Federal Register, as discussed above.

In the Austria investigation, Commerce published the amended preliminary determination on June 18, 2019.⁹ Therefore, the extended provisional measures period for Austria, beginning on the date of publication of the amended preliminary determination, expires on December 15, 2019. Accordingly, provisional measures for Austria will likely continue until and through the day preceding the date of publication of the ITC's injury determinations in the Federal Register. Suspension of liquidation will continue on the date of publication of the ITC's determination in the Federal Register, as discussed above.

⁹ See Austria Amended Preliminary Determination.

Estimated Weighted-Average Dumping Margins

The weighted-average dumping margins are as follows:

| Producer/exporter | Estimated weighted- average dumping margin (percent)
Austria | Habich GmbH | 25.90
| All Others | 25.90
France | Société Nouvelle des Couleurs Zinciques | 32.16
| All Others | 32.16

Notifications to Interested Parties

This notice constitutes the antidumping duty orders with respect to strontium chromate from Austria and France pursuant to section 736(a) of the Act. Interested parties can find a list of antidumping duty orders currently in effect at http://enforcement.trade.gov/stats/iastats1.html.

These orders are issued and published in accordance with section 736(a) of the Act and 19 CFR 351.211(b).

Dated: November 22, 2019.
Jeffrey I. Kessler,
Assistant Secretary for Enforcement and Compliance.

Appendix

Scope of the Orders

The merchandise covered by these orders is strontium chromate, regardless of form (including but not limited to, powder (sometimes known as granular), dispersions (sometimes known as paste), or in any solution). The chemical formula for strontium chromate is SrCrO4 and the Chemical Abstracts Service (CAS) registry number is 7789-06-2.

Strontium chromate that has been blended with another product or products is included in the scope if the resulting mix contains 15 percent or more of strontium chromate by total formula weight. Products with which strontium chromate may be blended include, but are not limited to, water and solvents such as Aromatic 100 Methyl Amyl Ketone (MAK)/2-Heptanone, Acetone, Glycol Ether EB, Naphtha Leicht, and Xylene. Subject merchandise includes strontium chromate that has been processed in a third country into a product that otherwise would be within the scope of these orders if processed in the country of manufacture of the in-scope strontium chromate.

The merchandise subject to these orders is currently classified in the Harmonized Tariff Schedule of the United States (HTSUS) under subheading 2841.50.9100. Subject merchandise may also enter under HTSUS subheading 3212.90.0050. While the HTSUS subheadings and CAS registry number are provided for convenience and customs purposes, the written description of the scope is dispositive.

[FR Doc. 2019-25776 Filed 11-26-19; 8:45 am]

BILLING CODE 3510-DS-P